DEPARTMENT OF THE INTERIOR

Bureau of Land Management

[MO# 4500171161]

Notice of Application for Withdrawal Extension and Opportunity for Public Meeting, Langmuir Principal Research Site; New Mexico

AGENCY: Bureau of Land Management, Interior.

ACTION: Notice.

SUMMARY: On behalf of the United States Department of Agriculture, the United States Forest Service (USFS) filed an application with the Bureau of Land Management (BLM) requesting that the Secretary of the Interior extend Public Land Order (PLO) No. 7587 for an additional 20-year term. PLO No. 7587 withdrew 852 acres of National Forest System lands in Socorro County, New Mexico, from location and entry under the United States mining laws, subject to valid existing rights, to protect the USFS-managed research site for a period of 20 years. The withdrawal created by PLO No. 7587 will expire on October 26, 2023, unless extended. This notice announces to the public an opportunity to comment on the proposal and to request a public meeting.

DATES: Comments and requests for a public meeting regarding the withdrawal extension application must be received by September 12, 2023.

ADDRESSES: All written comments and meeting requests should be sent to the Cibola National Forest Supervisor's Office, Attn: Richard Wilhelm, 2113 Osuna NE, Albuquerque, NM 87113.

FOR FURTHER INFORMATION CONTACT: Carol Harris, BLM Socorro Field Office Realty Specialist by phone at 575-838-1298 or email at caharris@blm.gov or Richard Wilhelm by phone at (505) 346-3842 or by email at richard.wilhelm@usda.gov.

Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The USFS filed an application requesting extension of the withdrawal established by PLO No. 7587 (58 FR 11968), which is incorporated herein by reference. PLO No. 7587 withdrew 852 acres of National Forest System lands in Socorro County, New Mexico, from location and entry under the United States mining laws, subject to valid existing rights, to protect the USFS-managed research site for a period of 20 years. The withdrawal created by PLO No. 7587 will expire on October 26, 2023, unless extended.

The purpose of the requested extension is to protect, as originally authorized under PLO No. 7587, the 852-acre area for the use of the Langmuir Principal Research Site on the Magdalena Ranger District of the Cibola National Forest for an additional 20-year term.

The use of a rights-of-way, interagency agreement, or cooperative agreement would not provide adequate protection for this site.

There are no suitable alternative sites available which would facilitate this type of research.

No water rights will be needed to fulfill the purpose of the requested withdrawal.

All interested persons who wish to submit comments, suggestions, or objections in connection with the withdrawal extension application, or to request a public meeting, may submit a written request to the Regional Forester by September 12, 2023, at the address in ADDRESSES.

Before including your address, phone number, email address, or other personal identifying information in your comment, be advised that your entire comment—including your personal identifying information—may be made publicly available at any time. While you may ask the BLM in your comment to withhold from your personal identifying information from the public review, we cannot guarantee that we will be able to do so.

This application will be processed in accordance with the regulations set-forth in 43 CFR 2310.4.

(Authority: 43 U.S.C. 1714)

Melanie G. Barnes,
State Director.

[FR Doc. 2023-12688 Filed 6-13-23; 8:45 am]

BILLING CODE 4331-23-P